NATIONAL SCIENCE FOUNDATION

Proposal Review Panel for Materials Research; Notice of Meeting

In accordance with the Federal Advisory Committee Act (Pub. L. 92-463, as amended), the National Science Foundation (NSF) announces the following meeting:

Name and Committee Code: Proposal Review Panel for Materials Research—Partnership for Research and Education in Materials, California State University Los Angeles SV (#1203).

Date and Time:

May 1, 2017; 8:00 a.m.-6:00 p.m.

May 2, 2017; 8:00 a.m.-12:00 p.m.

Place: California State University—Los Angeles, 5151 State University Drive, Los Angeles, CA 90032.

Type of Meeting: Part-Open.

Contact Person: Dr. Jose Caro, Program Director, Partnership for Research and Education in Materials, PREM., Division of Materials Research, Room 1065, National Science Foundation, 4201 Wilson Boulevard, Arlington, VA 22230; Telephone (703) 292-4914.

Purpose of Meeting: NSF site visit to provide advice and recommendations concerning further NSF support for the Center.

Agenda

Monday, May 1, 2017; 8 a.m.-6 p.m.

8:00 a.m.-8:15 a.m. Continental Breakfast (Closed)

8:15 a.m.-8:30 a.m. Executive Session for Site Visit Team Only (Closed)

8:30 a.m.-8:55 a.m. Welcome and Overview by Administration

8:55 a.m.-9:30 a.m. PI's Overview of PREM

9:30 a.m.-9:45 a.m. Q&A for PI's and Administrator's Overviews

9:45 a.m.-10:15 a.m. Partner Institutions Interactions Q&A

10:15 a.m.-10:30 a.m. Break

10:30 a.m.-12:00 p.m. Research Presentations (CSULA)/Q&A

12:00 p.m.-12:15 p.m. Q&A for Science Presentations

12:15 p.m.-1:15 p.m. Lunch with students and post docs (no faculty).

1:15 p.m.-2:15 p.m. Facilities Overview and Visit

2:15 p.m.-2:45 p.m. Visiting Team with University Management (Closed)

2:45 p.m.-4:00 p.m. Poster Session with refreshments

4:00 p.m.-5:00 p.m. Executive session—SV Team only (Closed)

5:00 p.m.-5:45 p.m. SV Team meets with PREM Management Team

5:45 p.m. Adjourn

6:00 p.m. Dinner

Tuesday, May 2, 2017; 8 a.m.-12 p.m.

8:00 a.m.-8:30 a.m. Continental Breakfast. Golden Eagle Ballroom 1

8:30 a.m.-9:30 a.m. Education and Outreach Activities

9:30 a.m.-10:00 a.m. Q&A for Educational and Outreach Presentations

10:00 a.m.-11:45 a.m. Executive Sessions for Site Visit Team Only (Closed)

11:45 a.m.-12:00 p.m. NFS Debriefing with PREM

12:00 p.m. End of Site Visit

12:00 p.m. Working Lunch, Optional

Reason for Late Notice: Due to unforeseen scheduling complications and the necessity to proceed with review of the Center.

Reason for Closing: The work being reviewed during closed portions of the site visit will include information of a proprietary or confidential nature, including technical information; financial data, such as salaries and personal information concerning individuals associated with the proposals. These matters are exempt under 5 U.S.C. 552b(c), (4) and (6) of the Government in the Sunshine Act.

Dated: April 24, 2017.
Crystal Robinson,
Committee Management Officer.

[FR Doc. 2017-08478 Filed 4-26-17; 8:45 am]

BILLING CODE 7555-01-P